DEPARTMENT OF ENERGY

Federal Energy Regulatory Commission

[Docket No. IC19-17-000]

Commission Information Collection Activities (FERC Form No. 60, FERC-61, and FERC-555A); Consolidated Comment Request; Extension

AGENCY: Federal Energy Regulatory Commission, Department of Energy.

ACTION: Notice of information collections and request for comments.

SUMMARY: In compliance with the requirements of the Paperwork Reduction Act of 1995, the Federal Energy Regulatory Commission (Commission or FERC) is soliciting public comment on the requirements and burden of the information collections described below.

DATES: Comments on the collections of information are due May 20, 2019.

ADDRESSES: You may submit comments (identified by Docket No. IC19-17-000) by either of the following methods:

• eFiling at Commission's Website: http://www.ferc.gov/docs-filing/efiling.asp.

• Mail/Hand Delivery/Courier: Federal Energy Regulatory Commission, Secretary of the Commission, 888 First Street NE, Washington, DC 20426.

Please reference the specific collection number and/or title in your comments.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Type of Request: Three-year extension of the information collection requirements for all collections described below with no changes to the current reporting requirements. Please note the three collections are distinct.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

FERC Form No. 60 ¹ (Annual Report of Centralized Service Companies), FERC-61 (Narrative Description of Service Company Functions), and FERC-555A (Preservation of Records Companies and Service Companies Subject to PUHCA)

¹ The Form No. 60 is also part of a Commission Notice of Proposed Rulemaking (NOPR) issued on January 17, 2019 in Docket No. RM19-12 that includes 10 information collections. See Revisions to the Filing Process for Commission Forms, 166 FERC ¶ 61,027 (2019). The NOPR proposes to change the format of the information that is being collected from a Commission-distributed software application called Visual FoxPro (VFP) to a standard built on eXtensible Business Reporting Language (XBRL). Under the NOPR, the Commission is not proposing to change the information currently collected in the Form No. 60 (or in any of the VFP Forms), but rather to change the format of the information that is being collected from VFP to XBRL. Because there can be only one pending item per OMB Control No. pending OMB review at one time, the Form No. 60 is represented in the RM19-12 NOPR process as the “Form No. 60-A.”

OMB Control No.: 1902-0215.

Abstract: In accordance with the Energy Policy Act of 2005 (EPAct 2005), the Commission implemented the repeal of the Public Utility Holding Company Act of 1935 (PUHCA 1935) and implemented the provisions of a newly enacted Public Utility Holding Company Act 2005 (PUHCA 2005). Pursuant to PUHCA 2005, the Commission requires centralized service companies to file the Form No. 60, unless the company is exempted or granted a waiver pursuant to the Commission's regulations. The information collected in Form No. 60 enables better monitoring for cross-subsidization, and aids the Commission in carrying out its statutory responsibilities. In addition, centralized service companies are required to follow the Commission's preservation of records requirements for centralized service companies.

FERC Form No. 60

Form No. 60 is an annual reporting requirement for centralized service companies set forth in 18 CFR 366.23. The report's function is to collect financial information (including balance sheet, assets, liabilities, billing and charges for associated and non-associated companies) from centralized service companies subject to the Commission's jurisdiction. Unless the Commission exempts or grants a waiver pursuant to 18 CFR 366.3 and 366.4 to the holding company system, every centralized service company in a holding company system must prepare and file electronically with the FERC the Form No. 60, pursuant to the General Instructions in the form.

FERC-61

FERC-61 is a filing requirement for service companies in holding company systems (including special purpose companies) that are currently exempt or granted a waiver of FERC's regulations and would not have to file the FERC Form No. 60. Instead, those service companies are required to file, on an annual basis, a narrative description of the service company's functions during the prior calendar year (FERC-61). In complying, a holding company may make a single filing on behalf of all of its service company subsidiaries.

FERC-555A

The Commission's regulations prescribe a mandated preservation of records requirements for holding companies and service companies (unless otherwise exempted by FERC). This requires them to maintain and make available to FERC, their books and records. The preservation of records requirement provides for uniform records retention by holding companies and centralized service companies subject to PUHCA 2005.

Data from the FERC Form No. 60, FERC-61, and FERC-555A provide a level of transparency that: (1) Helps protect ratepayers from pass-through of improper service company costs, (2) enables the Commission to review and determine cost allocations (among holding company members) for certain non-power goods and services, (3) aids the Commission in meeting its oversight and market monitoring obligations, and (4) benefits the public, both as ratepayers and investors. In addition, the Commission's audit staff uses these records during compliance reviews and special analyses.

If data from the FERC Form No. 60, FERC-61, and FERC-555A were not available, it would be difficult for the Commission to meet its statutory responsibilities under EPAct 1992, EPAct of 2005, and PUHCA 2005, and the Commission would have fewer of the regulatory mechanisms necessary to ensure transparency and protect ratepayers.

Type of Respondent: Centralized service companies

Estimate of Annual Burden: The Commission estimates the annual public reporting burden for the information collection as:

FERC Form No. 60 (Annual Report of Centralized Service Companies), FERC-61 (Narrative Description of Service Company Functions), and FERC-555A (Preservation of Records Holding Companies and Service Companies Subject to PUHCA)
| Number of respondents | Annual number of responses per respondent | Total number of responses | Average Burden & cost per response ² | Total annual burden hours & total annual cost | Cost per respondent ($)
| (1) | (2) | (1) * (2) = (3) | (4) | (3) * (4) = (5) | (5) ÷ (1) ³
Form No. 60 ⁴ | 39 | 1 | 39 | 75 hrs.; $4,749 | 2,925 hrs.; $185,211 | 4,749
Form No. 61 ⁵ | 78 | 1 | 78 | 0.5 hrs.; $19.84 | 39 hrs.; $1,548 | 19.84
Form No. 555A ⁶ | 117 | 1 | 117 | 1,080 hrs.; $36,061 | 126,360 hrs.; $4,219,160 | 36,061
Total Paperwork Burden |  |  | 234 |  | 129,324 hrs.; $4,405,919 |

² The estimates for cost per response are derived using the following formula: Average Burden Hours per Response * $79.00/hour = Average cost/response. The figure is the 2018 FERC average hourly cost (for wages and benefits) of $79.00 (and an average annual salary of $164,820/year). Commission staff is using the FERC average salary because we consider any reporting requirements completed in response to the FERC-537 to be compensated at rates similar to the work of FERC employees.

³ Each of the figures in this column are rounded to the nearest dollar.

⁴ For the FERC Form No. 60, the $63.32 hourly cost figure comes from the average cost (wages plus benefits) of a utility management analyst (Occupation Code 13-1111) and an accountant (Occupation Code 13-2011) as posted on the Bureau of Labor Statistics (BLS) website (http://www.bls.gov/oes/current/naics2_22.htm).

⁵ For the FERC-61, the $39.68 hourly cost figure comes from the cost of a records clerk (Occupation Code 43-4199) as posted on the BLS website (http://www.bls.gov/oes/current/naics2_22.htm).

⁶ For the FERC-555A, the $33.39 hourly cost figure comes from the average cost (wages plus benefits) of a file clerk (Occupation Code 43-4071) as posted on the BLS website (http://www.bls.gov/oes/current/naics2_22.htm).

FERC-555A Record Rentention Requirements
| Total number of respondents | Cost per respondent | Total annual burden hours & total annual costs
| (1) * (2) = (3) | (4) | (3) * (4) = (5)
Paper Storage | 117 | $387.60 | $45,349.20
Electronic Storage | 117 | 15.25 | 1,784.25
Total Storage Burden | 117 |  | 47,133.45

Total Annual Cost: $4,409,919 (Paperwork Burden) + $47,133.45 (Record Retention) = $4,453,052.45.

⁷ Each of the 117 entities is assumed to have both paper and electronic record retention.

A more accurate breakdown of the FERC-60/61/555A cost categories follows:

Labor Cost: The total estimated annual cost for labor burden to respondents is $4,405,919 [$185,211 (FERC Form No. 60) + $1,548 (FERC-61) + $4,219,160 (FERC-555A)].

FERC Form No. 60: 2925 hours (75 hours × 39 respondents) * $63.32/hour = $185,211.

FERC-61: 39 hours (.5 hours × 78 respondents) * $39.68/hour = $1,548.

FERC-555A: 126,360 hours (1080 hours × 117 respondents) * $33.39/hour = $4,219,160.

Storage Cost: ⁸ In addition to the labor (burden cost provided above) the table reflects an additional cost for record retention and storage:

⁸ Internal analysis assumes 50% paper storage and 50% electronic storage.

• Paper storage costs (using an estimate of 60 cubic feet × $6.46 per cubic foot): $387.60 per respondent annually. Total annual paper storage cost to industry ($387.60 × 117 respondents): $45,349.20. This estimate assumes that a respondent stores the same volume of paper as it did in the past and that the cost of such storage has not changed. We expect that this estimate should trend downward over time as more companies move away from paper storage and rely more heavily on electronic storage.

• Electronic storage costs: $15.25 per respondent annually. Total annual electronic storage cost to industry ($15.25 × 117 respondents): $1,784.25. This calculation retains the previous estimate that storage of 1GB per year cost of $15.25. We expect that this estimate should trend downward over time as the cost of electronic storage technology, including cloud storage, continues to decrease. For example, external hard drives of approximately 500GB are available for approximately $50. In addition, cloud storage plans from multiple providers for 1TB of storage (with a reasonable amount of requests and data transfers) are available for less than $35 per month.

Dated: March 14, 2019.
Kimberly D. Bose,
Secretary.

[FR Doc. 2019-05208 Filed 3-19-19; 8:45 am]

BILLING CODE 6717-01-P